DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2008, there were four applications approved. This notice also includes information on one application, approved in July 2008, inadvertently left off the July 2008 notice. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: County of Sheridan, Sheridan, Wyoming.

Application Number: 08-04-C-00-SHR.

Application Type: Impose and use a PFC.

PFC Level: $4.50.

Total PFC Revenue Approved In This Decision: $736,114.

Earliest Charge Effective Date: October 1, 2008.

Estimated Charge Expiration Date: June 1, 2015.

Class of Air Carriers Not Required to Collect PFC's: None.

Brief Description of Projects Approved for Collection and Use:

Security fencing.

Emergency generator.

Rehabilitate taxiway (schedule I).

Runway safety area.

Wildlife hazard study.

Terminal/aircraft rescue and firefighting building improvements.

Snow removal equipment.

Apron expansion.

Reconstruct terminal parking.

Rehabilitate taxiway (schedule II).

Terminal building upgrades.

PFC application and administration fees.

Decision Date: July 30, 2008.

FOR FURTHER INFORMATION CONTACT: Chris Schaffer, Denver Airports District Office, (303) 342-1258.

Public Agency: City of Wichita Falls, Texas.

Application Number: 08-O1-C-00-SPS.

Application Type: Impose and use a PFC.

Total PFC Revenue Approved In This Decision: $1,646,268.

PFC Level: $4.50.

Earliest Charge Effective Date: October 1, 2008.

Estimated Charge Expiration Date: December 1, 2017.

Class of Air Carriers Not Required to Collect PFC's: None.

Brief Description of Projects Approved for Collection at Wichita Falls Municipal Airport (SPS) and Use at SPS:

Rehabilitate taxiway C and terminal apron.

Planning studies.

Rehabilitate runway 17/35.

Brief Description of Projects Approved for Collection at SPS and Use at Kickapoo Downtown Airport (CWC):

Acquire CWC.

Planning studies.

Improve airfield.

PFC application.

Decision Date: August 4, 2008.

FOR FURTHER INFORMATION CONTACT: Guillermo Villalobos, Texas Airports Development Office, (817) 222-5657.

Public Agency: Tweed-New Haven Regional Airport Authority, New Haven, Connecticut.

Application Number: 08-04-C-00-HVN.

Application Type: Impose and use a PFC.

Total PFC Revenue Approved In This Decision: $352,756.

PFC Level: $4.50.

Earliest Charge Effective Date: February 1, 2009.

Estimated Charge Expiration Date: January 1,2011.

Class of Air Carriers Not Required to Collect PFC's:

Air taxi—commercial operators non-scheduled/on-demand air carriers.

Determination: Approved. Based on information contained in the public agency's application, the FAA has determined that the proposed class accounts for less than 1 percent of the total annual enplanements at Tweed-New Haven Regional Airport.

Brief Description of Projects Approved for Collection and Use:

Acquisition of aircraft rescue and firefighting vehicle.

Terminal apron reconstruction—construction of glycol collection system.

Construction of runway 2 safety area and taxiway B (extension) (phase I).

Aeronautical study.

Replace airport beacon.

Wildlife study.

Decision Date: August 14, 2008.

FOR FURTHER INFORMATION CONTACT: Priscilla Scott, New England Region Airports Division, (781) 238-7614.

Public Agency: South Jersey Transportation Authority, Egg Harbor Township, New Jersey.

Application Number: 08-06-C-00-ACY.

Application Type: Impose and use a PFC.

Total PFC Revenue Approved In This Decision: $5,515,092.

PFC Level: $4.50.

Earliest Charge Effective Date: January 1, 2010.

Estimated Charge Expiration Date: May 1, 2011.

Class of Air Carriers Not Required to Collect PFC's:

Air taxi/commercial operators—non-scheduled/on-demand air carriers filing FAA Form 1800-31.

Determination: Approved. Based on information contained in the public agency's application, the FAA has determined that the proposed class accounts for less than 1 percent of the total annual enplanements at Atlantic City International Airport.

Brief Description of Projects Approved for Collection and Use:

Acquisition of structural firefighting vehicle.

Terminal apron expansion, phase I.

Decision Date: August 18, 2008.

FOR FURTHER INFORMATION CONTACT: Lori Ledebohm, Harrisburg Airports District Office, (717) 730-2835.

Public Agency: County of Milwaukee, Milwaukee, Wisconsin.

Application Number: 08-14-C-00-MKE.

Application Type: Impose and use a PFC.

Total PFC Revenue Approved In This Decision: $16,760,334.

PFC Level: $3.00.

Earliest Charge Effective Date: June 1, 2024.

Estimated Charge Expiration Date: May 1, 2025.

Class of Air Carriers Not Required to Collect PFC's:

Air taxi/commercial operators filing FAA Form 1800-31.

Determination: Approved. Based on information contained in the public agency's application, the FAA has determined that the proposed class accounts for less than 1 percent of the total annual enplanements at General Mitchell International Airport.

Brief Description of Projects Approved for Collection and Use:

Runway abrasives storage building design and construction.

Runway safety area design—runways 1L, 19R, 7R, and 25L.

Security and wildlife perimeter fencing.

Storm water box tunnel rehabilitation.

Perimeter and aircraft rescue and firefighting road reconfiguration—design.

Runways 1L/19R and 7R/25L intersection repaving study.

Public restroom renovation.

Security system fiber optic cable replacement.

Equipment storage building—design and construction.

Air Cargo Way reconstruction and relighting.

Brief Description of Projects Partially Approved for Collection and Use:

Airfield pavement rehabilitation.

Determination: The County has not yet defined the specific work to be accomplished in 2011 and beyond. Therefore, the FAA was unable to make eligibility determinations for that work. The approved amount was reduced from that requested due to the elements whose eligibility could not be determined at this time.

Airfield safety improvements.

Determination: The County has not yet defined the specific work to be accomplished in 2010 through 2013. Therefore, the FAA was unable to make eligibility determinations for that work. The approved amount was reduced from that requested due to the elements whose eligibility could not be determined at this time.

Acquire snow removal equipment and aircraft rescue and firefighting vehicles.

Determination: The aerial bucket used to maintain apron ramp lighting and the snow melters are maintenance items and, therefore, are not PFC eligible. The approved amount was reduced from that requested due to the ineligible items.

PFC administrative costs.

Determination: The FAA approved administrative costs for quarterly PFC reporting compliance and auditing expenses through 2014 in application 02-07-C-00-MKE. Administrative costs to cover consultant fees for preparing applications and amendments in 2008 through 2010 were not covered in the earlier decision and, therefore, are approved in this decision. The approved amount was reduced from that requested due to the ineligible items.

Brief Description of Withdrawn Projects:

Concourse E ground power and preconditioned air units.

Date of withdrawal: July 25, 2008.

Terminal expansion concept analysis.

Cargo apron expansion—environmental.

Date of withdrawal: July 28, 2008.

Decision Date: August 25, 2008.

FOR FURTHER INFORMATION CONTACT: Nancy Nistler, Minneapolis Airports District Office, (812) 713-4353.

Amendments to PFC Approvals

Amendment No. City, State | Amendment approved date | Original approved net PFC revenue | Amended approved net PFC revenue | Original estimated charge exp. date | Amended estimated charge exp. date
07-08-C-01-DCA, Arlington, VA | 07/29/08 | $124,914,400 | $124,914,400 | 03/01/15 | 03/01/15
06-01-C-01-HOU, Houston, TX | 07/31/08 | 163,415,047 | 163,517,150 | 10/01/17 | 11/01/17
* 9701-C-05-SDF, Louisville, KY | 08/18/08 | 90,600,000 | 90,600,000 | 03/01/14 | 11/01/14
92-01-I-01-STX, St. Thomas, VI | 08/21/08 | 2,280,465 | 2,158,095 | 04/01/98 | 04/01/98
94-02-U-01-STX, St. Thomas, VI | 08/21/08 | NA | NA | 04/01/98 | 04/01/98
98-03-C-02-SAV, Savannah, GA | 08/22/08 | 1,111,931 | 1,007,939 | 07/01/11 | 08/01/10
00-04-C-01-SAV, Savannah, GA | 08/22/08 | 4,223,048 | 3,838,070 | 07/01/12 | 07/01/11
92-01-I-04-BTR, Baton Rouge, LA | 08/22/08 | 2,168,761 | 1,765,124 | 11/01/94 | 11/01/94
93-02-U-03-BTR, Baton Rouge, LA | 08/27/08 | NA | NA | 11/01/94 | 11/01/94
97-04-C-03-BTR, Baton Rouge, LA | 08/27/08 | 37,570,400 | 34,863,776 | 10/01/19 | 08/01/15
00-05-C-02-BTR, Baton Rouge, LA | 08/28/08 | 4,363,572 | 5,413,574 | 11/01/21 | 02/01/18
05-06-C-01-BTR, Baton Rouge, LA | 08/28/08 | 9,986,100 | 12,848,189 | 03/01/26 | 03/01/24
Notes: The amendment denoted by an asterisk (*) includes a change to the PFC level charged from $4.50 per enplaned passenger to $3.00 per enplaned passenger. For Louisville, KY this change is effective on October 1, 2008.

Issued in Washington, DC on November 18, 2008.
Joe Hebert,
Manager, Financial Analysis and Passenger Facility Charge Branch.

[FR Doc. E8-28026 Filed 12-1-08; 8:45 am]

BILLING CODE 4910-13-M